DEPARTMENT OF THE INTERIOR

Fish and Wildlife Service

Fiscal Year 2006 Tribal Wildlife Grants; Request for Grant Proposals

AGENCY: Fish and Wildlife Service, Interior.

ACTION: Notice of request for proposals.

SUMMARY: We, the Fish and Wildlife Service (Service), are soliciting project proposals for Federal assistance under the Tribal Wildlife Grants program (TWG). The Department of the Interior and Related Agencies Appropriations Act for Fiscal Year (FY) 2006 authorized an appropriation of $68,174,000 (subject to potential rescission to meet other important national priorities) for wildlife conservation grants to States and to the District of Columbia, U.S. Territories, and Tribes under provisions of the Fish and Wildlife Act of 1956 and the Fish and Wildlife Coordination Act, for the development and implementation of programs for the benefit of wildlife and their habitat, including species that are not hunted or fished. The Act further specified that the Service use $5,971,000 of the funds for a competitive grant program available to federally recognized Indian Tribes. This allows the Secretary, through the Director of the Service, to manage a separate Tribal grant program not subject to the provisions of the formula-based State Wildlife Grants program, or other requirements of the State Wildlife Grants portion of Public Law 107-63.

DATES: Project proposals must be postmarked by January 31, 2006 and submitted to the appropriate Regional Office (see Table 1 in ADDRESSES).

ADDRESSES: For information regarding collection requirements and application kit, applicants should contact the Native American Liaison in the Service's Regional Office for the State in which the proposed project would occur. The contact information for each Regional Office is listed in Table 1 below. Information on the TWG is also available from the U.S. Fish and Wildlife Service, Office of the Native American Liaison, 1849 C Street, NW., Mail Stop 3251, Washington, DC 20240, fax (202) 501-3524 and electronically at http://grants.fws.gov/tribal.html.

Send your project proposal to the Service's Regional Office for the State in which the proposed project would occur (see Table 1 under this section). You must submit one original and two copies of the complete proposal. We will not accept facsimile project proposals.

Table 1.—Where To Send Project Proposals and List of Regional Contacts
Service region | States where the project will occur | Where to send your project propsal | Regional Native American liaison and phone number
Region 1 | Hawaii, Idaho, Oregon, Washington, Nevada, and California | Regional Director; U.S. Fish and Wildlife Service, Eastside Federal Complex, 911 NE., 11th Avenue, Portland, OR 97232-4181 | Scott L. Aikin (503) 231-6123
Region 2 | Arizona, New Mexico, Oklahoma, and Texas | Regional Director; U.S. Fish and Wildlife Service, 500 Gold Avenue, SW., P.O. Box 1306, Albuquerque, NM 87103-1306 | John Antonio (505) 245-6810
Region 3 | Illinois, Indiana, Iowa, Michigan, Minnesota, Missouri, Ohio, and Wisconsin | Regional Director; U.S. Fish and Wildlife Service, 1 Federal Drive, Fort Snelling, MN 55111-4080 | John Leonard (612) 713-5108
Region 4 | Alabama, Arkansas, Florida, Georgia, Kentucky, Louisiana, Mississippi, North Carolina, South Carolina, and Tennessee | Regional Director; U.S. Fish and Wildlife Service, 1875 Century Blvd., Rm. 410, Atlanta, GA 30345 | Kyla Hastie (404) 679-7133
Region 5 | Connecticut, Delaware, District of Columbia, Maine, Maryland, Massachusetts, New Hampshire, New Jersey, New York, Pennsylvania, Rhode Island, Vermont, Virginia, and West Virginia | Regional Director; U.S. Fish and Wildlife Service, 300 Westgate Center Drive, Hadley, MA 01035-9589 | D.J. Monette (413) 253-8662
Region 6 | Colorado, Kansas, Montana, Nebraska, North Dakota, South Dakota, Utah, and Wyoming | Regional Director; U.S. Fish and Wildlife Service, 134 Union Boulevard, Suite 400, Lakewood, CO 80228 | David Redhorse (303) 236-4575
Region 7 | Alaska | Regional Director; U.S. Fish and Wildlife Service, 1011 East Tudor Road, Anchorage, AK 99503-6199 | Sue Detwiler (907) 786-3868

FOR FURTHER INFORMATION CONTACT: For further information, contact the Native American Liaison in the appropriate Regional Office (see Table 1 under ADDRESSES) or Patrick Durham, Office of the Native American Liaison, U.S. Fish and Wildlife Service, 1849 C Street, Mail Stop 3012 MIB, Washington, DC 20240 (202)208-4133.

Request for Proposals: The Service invites submission of grant proposals from federally recognized Indian tribal governments (including Alaska Native Villages) for the development and implementation of programs for the benefit of wildlife and their habitat, including species that are not hunted or fished. This program supports the efforts of federally recognized Tribal governments in projects that develop or augment the capacity to manage, conserve, or protect fish and wildlife resources through the provision of funding and technical support.

For complete application guidelines, please refer to http://www.fws.gov/grnts/tribal.html of contact the Native American Liaison in your Fish and Wildlife Service Region (see Table 1 in ADDRESSES). The Application Kit outlines program requirements, selection criteria, and award procedures.

Dated: October 24, 2005.
Paul Hoffman,
Acting Assistant Secretary, Fish and Wildlife and Parks.

[FR Doc. 05-21691 Filed 11-1-05; 8:45 am]

BILLING CODE 4310-55-M